GENERAL SERVICES ADMINISTRATION

Federal Supply Service; Household Goods Tender of Service (HTOS); Conversion of Centralized Household Goods Traffic Management Program (CHAMP) Flat Industrial Funding Fee (IFF) to a Percentage IFF

Correction

In notice document 02-20127 beginning on page 51856 in the issue of Friday, August 9, 2002 make the following correction:

On page 51858, the second table is corrected to read as set forth below.

Examples:

(1) Domestic:

A | B | C | D | E | F | G | H | I | J | K | L
S | GSAA | GD | HHG | RXPG8TY43 | Q794912349XXXXX | 19990612 | S12345XX | V | 19990105 | 19990312 | 007

M | N | O | P | Q | R | S | T | U | V | W
MO00 | 64131 | OK00 | 71222 | 10030 | 0400 | 056 | 12500 | 05500 | SMITH-BATTSONXX | 103777444

(2) International:

A | B | C | D | E | F | G | H | I | J | K | L
S | GSAA | GI | POV | RXPG8TY43 | Q794-P912666XXX | 19991012 | PP123456 | G | 19990601 | 19990724 | 053

M | N | O | P | Q | R | S | T | U | V | W
MO00 | 64131 | 490J | XXXXX | 00000 | 0000 | 165 | 15500 | 15500 | SMITH-BATTSONXX | 103777444

[FR Doc. C2-20127 Filed 8-29-02; 8:45 am]

BILLING CODE 1505-01-D

DEPARTMENT OF HEALTH AND HUMAN SERVICES

Agency for Healthcare Research and Quality

Preliminary Measure Set for the National Healthcare Quality Report; Request for Comments

Correction

In notice document 02-20920, beginning on page 53801, in the issue of August 19, 2002, make the following corrections:

1. On page 53801, in the third column, under the heading Comments Deadline, in the last line, the e-mail address “ekelley@ahrg.gov” should read “ekelley@ahrq.gov”.

2. On the same page, in the same column, under the heading Availability of Preliminary Measure Set, in the third and fourth lines, the Web site “http://www.ahrg.gov/qual/measurix.htm” should read “http://www.ahrq.gov/qual/measurix.htm”.

[FR Doc. C2-20920 Filed 8-29-02; 8:45 am]

BILLING CODE 1505-01-D

DEPARTMENT OF THE INTERIOR

Bureau of Land Management

[MTM 91636]

Notice of Proposed Withdrawal and Opportunity for Public Meeting; MT

Correction

In notice document 02-21393 appearing on page 54462 in the issue of Thursday, August 22, 2002, the docket number should read as set forth above.

[FR Doc. C2-21393 Filed 8-29-02; 8:45 am]

BILLING CODE 1505-01-D

DEPARTMENT OF TRANSPORTATION

Federal Aviation Administration

14 CFR Part 71

[Airspace Docket No. 02-ACE-8]

Proposed Establishment of Class E2 and Class E4 Airspace and Modification of Existing Class E5 Airspace; Ainsworth, NE

Correction

In proposed rule document 02-21576 beginning on page 54599 in the issue of Friday, August 23, 2002, make the following correction:

On page 54601, in the first column, in the heading “ACE NE 35 Ainsworth, NE [Revised]”, “35” should read “E5”.

[FR Doc. C2-21576 Filed 8-29-02; 8:45 am]

BILLING CODE 1505-01-D